DEPARTMENT OF LABOR

Mine Safety and Health Administration

30 CFR Parts 70, 75 and 90

RIN 1219-AB14

Verification of Underground Coal Mine Operators' Dust Control Plans and Compliance Sampling for Respirable Dust

AGENCY: Mine Safety and Health Administration (MSHA), Labor.

ACTION: Proposed rule; corrections.

SUMMARY: This document corrects errors that appeared in MSHA's preamble and proposed rule for Verification of Underground Coal Mine Operators' Dust Control Plans and Compliance Sampling for Respirable Dust.

FOR FURTHER INFORMATION CONTACT: Marvin W. Nichols, Jr., Director, Office of Standards, Regulations, and Variances, MSHA, 202-693-9440.

SUPPLEMENTARY INFORMATION: On March 6, 2003, (68 FR 10784), MSHA published a proposed rule in the Federal Register that would require mine operators to verify through sampling the effectiveness of the dust control parameters for each mechanized mining unit (MMU) specified in the mine ventilation plan. For samples to be valid, the operator would be required to sample on a production shift during which the amount of material produced by a MMU is at or above the verification production level using only the dust control parameters listed in the ventilation plan.

The Federal Register will be publishing additional corrections to printing errors.

Please make the following corrections to that preamble:

1. On page 10819, column three, line 43, change [(3.54 mg/m³/3]” to read “[(3.54 mg/m³)/3]''.

2. On page 10819, column three, line 44, change [(174 μg/m³/3]” to read “[(174 μg/m³)/3]''.

3. On page 10835, column two, line 33, change “bulletin report” to read “bulletin board.”

4. On page 10854, column one, line 69, change “Table 11,” to read “Table 119.”

5. On page 10861, column two, line one, change “http://wwww.msha.gov/REGSINFO.HTM” to read “http://www.msha.gov/REGSINFO.HTM”.

Dated: March 21, 2003.
Dave D. Lauriski,
Assistant Secretary of Labor for Mine Safety and Health.

[FR Doc. 03-7753 Filed 3-31-03; 8:45 am]

BILLING CODE 4510-43-P